DEPARTMENT OF AGRICULTURE

Forest Service

36 CFR Part 219

RIN 0596-AB86

National Forest System Land Management Planning; Correction

AGENCY: Forest Service, USDA.

ACTION: Correcting amendment.

SUMMARY: This document contains a technical correction to 36 CFR 219.11(d)(6). This technical correction concerns the estimation of the quantity of timber that can be removed on a sustained yield basis. The final rule was published in the Federal Register, on April 9, 2012 (77 FR 21162).

DATES: These corrections are effective April 19, 2013.

ADDRESSES: Written inquiries about this correction document may be sent to the Director, Ecosystem Management Coordination Staff, USDA Forest Service, 1400 Independence Ave. SW., Mailstop Code 1104, Washington, DC 20250-1104.

FOR FURTHER INFORMATION CONTACT: Ecosystem Management Coordination staff's Planning Specialist Regis Terney at (202) 205-1552.

SUPPLEMENTARY INFORMATION:

Background

In volume 77 of the Federal Register, page 21162, April 9, 2012, (77 FR 21162) the United States Department of Agriculture (Department) published a final rule setting forth directions for developing, amending, revising, and monitoring land management plans (the planning rule).

The National Forest Management Act (NFMA) at 16 U.S.C. 1604(g)(3)(D) requires planning regulations to specify guidelines for land management plans which “permit increases in harvest levels based on intensified management practices, such as reforestation, thinning, and tree improvement” under certain conditions. This provision requires that the planning regulations must permit such increases in harvest levels if “(i) such practices justify increasing the harvests in accordance with the Multiple-Use Sustained-Yield Act of 1960,” and “(ii) if such harvest levels are decreased at the end of each planning period if such practices cannot be successfully implemented or funds are not received to permit such practices to continue substantially as planned.” Id. Because the planning rule did not explicitly include this mandated requirement, the Department is making a technical amendment at 36 CFR 219.11(d)(6), to explicitly include this requirement for intensified management practices. Accordingly, section 219.11(d)(6) now contains, in an introductory paragraph and paragraphs (i) and (iii), the regulatory text that appeared in the planning rule upon its issuance in April, and paragraph (ii), which contains new text tracking the text of 16 U.S.C. 1604(g)(3)(D) of the NFMA. This clarification does not have any substantive legal effect but it simply makes clear that the planning rule complies with the NFMA's requirement that such rule allow for intensified management practices as set forth in 16 U.S.C. 1604(g)(3)(D).

The Department has also concluded that additional documentation under the National Environmental Policy Act is not necessary to make the decision to make this rule amendment. There is no need to consider the effects of an explicit intensified-management-practices provision among alternatives, because such a provision would be included in every alternative. See 16 U.S.C. 1604(g)(3)(D). Therefore, there is no need to supplement the National Forest System Land Management Planning Rule Final Programmatic Environmental Impact Statement of January 2012.

List of Subjects in 36 CFR Part 219

Administrative practice and procedure, Environmental impact statements, Indians, Intergovernmental relations, National forests, Reporting and recordkeeping requirements, Science and technology.

Accordingly 36 CFR part 219 is corrected by making the following correcting amendment:

PART 219—PLANNING

1. The authority citation for part 219 continues to read as follows:

Authority: 5 U.S.C. 301; 16 U.S.C. 1604, 1613.

2. In § 219.11 revise paragraph (d)(6) to read as follows:

§ 219.11 Timber requirements based on the NFMA.

* * * * *

(d) * * *

(6) The quantity of timber that may be sold from the national forest is limited to an amount equal to or less than that which can be removed from such forest annually in perpetuity on a sustained yield basis. This limit may be measured on a decadal basis.

(i) The plan may provide for departures from this limit as provided by the NFMA when departure would be consistent with the plan's desired conditions and objectives. Exceptions for departure from this limit on the quantity sold may be made only after a public review and comment period of at least 90 days.

(ii) This limit may be based upon increases in harvest levels based on intensified management practices, such as reforestation, thinning, and tree improvement if such practices justify increasing the harvests in accordance with the Multiple-Use Sustained-Yield Act of 1960. The plan must require that such harvest levels be decreased at the end of each planning period if such practices cannot be successfully implemented or funds are not received to permit such practices to continue substantially as planned.

(iii) The Chief must include in the Forest Service Directive System procedures for estimating the quantity of timber that can be removed annually in perpetuity on a sustained-yield basis, and exceptions, consistent with 16 U.S.C. 1611.

* * * * *

Dated: March 13, 2013.
Thomas L. Tidwell,
Chief.

[FR Doc. 2013-08839 Filed 4-18-13; 8:45 am]

BILLING CODE 3410-11-P